DEPARTMENT OF DEFENSE

Department of the Army, Corps of Engineers

Revised Notice of Intent and Scoping Meeting for Loxahatchee River Watershed Restoration Project (Formerly Called North Palm Beach County Part 1) Associated With Prior Notice of Intent To Develop a Draft Environmental Impact Statement Issued October 16th, 2002

AGENCY: Department of the Army, U.S. Army Corps of Engineers, DoD.

ACTION: Revised notice of intent.

SUMMARY: The U.S. Army Corps of Engineers (Corps) Jacksonville District intends to prepare a National Environmental Policy Act (NEPA) assessment to restore and sustain the overall quantity, quality, timing, and distribution of freshwaters to the federally designated “National Wild and Scenic” Northwest Fork of the Loxahatchee River for current and future generations in Martin and Palm Beach Counties of Florida.

FOR FURTHER INFORMATION CONTACT: Mr. Andrew J. LoSchiavo, U.S. Army Corps of Engineers, Planning Division, Environmental Branch, P.O. Box 4970, Jacksonville, FL 32232-0019, by email Andrew.J.LoSchiavo@usace.army.mil, or by telephone at 904-232-2077.

SUPPLEMENTARY INFORMATION: a. Project Background and Authorization. This notice is in regards to a re-scoping of a Comprehensive Everglades Restoration Plan (CERP) feasibility study originally entitled North Palm Beach County Part 1 and renamed the Loxahatchee River Watershed Restoration Project (LRWRP). The LRWRP contains several of the 68 restoration project components envisioned as part of the Comprehensive Everglades Restoration Plan authorized by the U.S. Congress in section 601 of the 2000 Water Resources Development Act. The LRWRP Project Delivery Team (PDT) identified a Tentatively Selected Plan (TSP) in August 2010. Prior to the approval of the TSP, a select component of the plan was repurposed to accomplish specific state water quality objectives and it was determined this component would not be available to achieve water quantity, timing, and distribution goals of the project. This resulted in the need to rescope project objectives and identify additional alternatives through the U.S. Army Corps of Engineers (Corps) SMART Planning process. This study will use the best available science to develop an array of project alternatives and select a recommended plan to achieve restoration within the Loxahatchee River Watershed and provide restoration flows to the Loxahatchee River Northwest Fork and estuary.

b. Need or Purpose. This NEPA Assessment will evaluate the potential benefits and impacts of restoring and sustaining the overall quantity, quality, timing, and distribution of freshwaters to the federally designated “National Wild and Scenic” Northwest Fork of the Loxahatchee River for current and future generations. This project also seeks to restore, sustain, and reconnect the area's wetlands and watersheds that form the historic headwaters for the river. These areas include Jonathan Dickinson State Park, Pal Mar East/Cypress Creek, Dupuis Wildlife and Environmental Management Areas, J.W. Corbett Wildlife Management Area, Grassy Waters Preserve, Loxahatchee Slough, the last remaining riverine cypress stands in Southeast Florida in the Loxahatchee River, and the Loxahatchee River Estuary.

c. Proposed Solution and Forecast Completion Date. The LRWRP seeks to address these goals by developing alternatives that will capture, store, and redistribute water currently lost to tide; rehydrate headwater natural areas that have been hydrologically impacted by excessive draining and water diversions; reduce peak discharges to the project's estuarine systems; improve timing and distribution of water from the upstream watershed to increase the resiliency of freshwater riverine habitats to future sea-level changes; and reestablish connections among natural areas. If implemented, these actions will help restore more natural water deliveries, promote improved health and functionality of wetland and upland areas, and increase the quantity and quality of habitat available for native wildlife and vegetation.

d. Prior EAs, EISs. An EIS was prepared in 1999 associated with the Comprehensive Everglades Restoration Plan that proposed 68 project component modifications of the Central and Southern Florida Project.

e. Alternatives. A reevaluation of alternatives that include the following management measures will be pursued—

1. Spreader Canals, Flowways—Shallow canals to distribute and improve water delivery and connectivity of flow.

2. Spill Ways, Weirs, and Gravity Structures—to deliver allow water to move as specific depths.

3. Pump Stations—New Pump Stations to distribute and improve water delivery.

4. Backfill or plugging of canals—Internal drainage and routing features in the system would be plugged, partially or completely backfilled to improve surface water distribution and eliminate drainage.

5. Removal of levees and berms—Levees or berms would be degraded or removed to allow water to sheetflow freely.

6. Bridges and Culverts—Structures to be used to allow water flows through existing barriers in the systems.

7. Storage Features—Shallow, intermediate and deep water reservoirs, flow equalization basins and aquifer storage and recovery for capturing, holding and delivering both normal and peak flows and discharging when water required.

8. Operational Changes—Adjustments to operational criteria to improve timing and distribution of flow.

9. Non-Structural Solutions—Management measures that can address project goals and objectives without physical structural modifications to the managed/natural system. For example, leasing and/or purchasing land acquisition rights to maintain undeveloped natural areas adaptation zones above high tide to promote ecosystem adaptations to climate change.

Alternatives will also include the No Action alternative.

f. Issues. The effects on Federally listed threatened and endangered species, essential fish habitat, cultural resources, water supply, and flood damage risk reduction will be analyzed. Additionally, health and safety, water quality, aesthetics and recreation, fish and wildlife resources, energy conservation, socio-economic resources, and other impacts identified through scoping, public involvement, and interagency coordination will be discussed.

g. Scoping Process. A scoping meeting is scheduled for 12-Jan-2014 from 6:00-8:00 p.m. at: Indian River State College, Chastain Campus, 2400 Southeast Salerno Road, Stuart, FL 34997. The public will be involved in the planning process through mail solicitations and public notices listed on the following Web site— http://www.saj.usace.army.mil/Missions/Environmental/EcosystemRestoration/LoxahatcheeRiverWatershedRestorationProject.aspx.

h. Public Involvement. We invite the participation of affected Federal, state and local agencies, Tribes, and other interested private organizations and parties.

i. Coordination. The proposed action is being coordinated with the U.S. Fish and Wildlife Service and the National Marine Fisheries Service (NMFS) under section 7 of the Endangered Species Act, with the NMFS concerning Essential Fish Habitat and with the State Historic Preservation Officer.

j. Other Environmental Review and Consultation. The proposed action would involve evaluation for compliance with guidelines pursuant to section 404(b) of the Clean Water Act; application (to the State of Florida) for Water Quality Certification pursuant to section 401 of the Clean Water Act; certification of state lands, easements, and rights of way; and determination of Coastal Zone Management Act consistency.

k. Agency Role. The Corps and the non-Federal sponsor, South Florida Water Management District, will provide extensive information and assistance on the resources to be improved and those that would be impacted, mitigation measures, and alternatives.

l. NEPA Assessment Preparation. It is estimated that the NEPA Assessment will be available to the public on or about August 2016.

Dated: December 23, 2014.
Eric L. Bush,
Chief, Planning Division.

[FR Doc. 2015-00085 Filed 1-7-15; 8:45 am]

BILLING CODE 3720-58-P